DEPARTMENT OF THE INTERIOR

Office of the Secretary

DEPARTMENT OF COMMERCE

National Oceanic and Atmospheric Administration

Notice of Meeting

AGENCY: Office of the Secretary, Interior; National Oceanic and Atmospheric Administration, Commerce.

SUBJECT: U.S. Coral Reef Task Force; meeting.

ACTION: Notice of public meeting.

SUMMARY: On behalf of the U.S. Coral Reef Task Force, the Department of the Interior and the Department of Commerce announce a meeting to be held as a supplement to the upcoming U.S. Coral Reef Task Force meeting in American Samoa.

DATES: The public meeting will be held Thursday, July 27, 2000, from 1 p.m. to 4 p.m.

ADDRESSES: The meeting will be held in the Secretary's Conference Room, Room 5160, at the Department of the Interior, 1849 C Street NW, Washington, DC.

FOR FURTHER INFORMATION CONTACT: Jessica Jenkins, telephone (202) 219-0710, fax (202) 219-0229, e-mail Jessica_Jenkins@doi.gov.

SUPPLEMENTARY INFORMATION: The upcoming U.S. Coral Reef Task Force meeting to be held in American Samoa in August may be logistically difficult for some individuals to attend due to its remote location. A meeting in Washington, DC has been planned so that those people unable to travel to American Samoa are able to receive information and attend this meeting. For that reason, we have scheduled a “pre-meeting” to be held in Washington, DC on July 27. Please see the notice in today's Federal Register for details of that meeting.

A draft agenda for the meeting is available on the Task Force web site located at http://coralreef.gov. Participants are encouraged to submit their views on issues included in the agenda. Please provide the Task Force with your written comments either at the July 27 meeting or via mail to: Jessica Jenkins, Department of the Interior, 1849 C Street NW, Mail Stop 6635, Washington, DC 20240 or Jessica_Jenkins@doi.gov. You may also hand-deliver written comments to the address above, Room 3058. We will consider comments and information received by close of business Monday, August 7.

You may obtain additional information about the U.S. Coral Reef Task Force from the Internet at http://coralreef.gov.

Dated: July 13, 2000.
Stephen C. Saunders,
Deputy Assistant Secretary, Fish and Wildlife and Parks, Department of the Interior.
Rolland Schmitten,
Deputy Assistant, Secretary for International Affairs, Department of Commerce.

[FR Doc. 00-18184 Filed 7-18-00; 8:45 am]

BILLING CODE 3510-22-M